DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the period of September 2003.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (Increased imports) and (a)(2)(B)(II.B) (No shift in production to a foreign country) have not been met.

TA-W-52,665; Textron Fastening Systems, a wholly-owned subsidiary of Textron, Inc., PFPD Plant, Tooling Department, Rockford, IL

TA-W-52,489; Portola Packaging, Inc., U.S. Closure Div., Sumter, SC

TA-W-52,580; Irwin-Hodson Metal Manufacturing LLC, Portland, OR

TA-W-52,594; Squires Hardwoods, Inc., Shannon Div., Shannon, NC

TA-W-52,374; Ellwood City Forge, a div. of Ellwood of The Ellwood Group, Inc., Ellwood City, PA

TA-W-52,355; Honeywell International, Inc., Industry Solutions, Cupertino, CA

TA-W-52,394; Guilford Mills, Inc., Guilford East, Wallace, NC

TA-W-52,159; Milford Fabricating Co., Detroit, MI

TA-W-52,416; Jolly Gardener, Poland, ME

TA-W-52,576; Smith Meter, Inc., a/k/a/ FMV Technologies, Inc., Erie, PA

TA-W-52,758; Bear Garden Fisheries, Kodiak, AK

TA-W-52,761; Fishing Vessel (F/V) Leopard, Kenai, AK

The workers firm does not produce an article as required for certification under Section 222 of the Trade Act of 1974.

TA-W-52,598 & A; Minacs, Flint, MI & Swartz Creek, MI

TA-W-52,622; Descartes Systems (USA) LLC, an affiliate of The Descartes Systems Group, Inc., Atlanta, GA

TA-W-52,666; Preceed America, Inc., Hillsboro, OR

TA-W-52,670; Joy Mining Machinery, Abingdon, VA

TA-W-52,632; UAW-Daimler Chrysler Child Development Center, National Training Center, Huntsville, AL

TA-W-52,383; AG Communication Systems, Phoenix, AZ

TA-W-52,615; Underwriters Laboratories, Inc., Camas, WA

TA-W-52,660; C.J. USA Transport, Wayne, MI

TA-W-52,651; R.R. Donnelley & Sons Co., Lancaster Financial Printing Div., Lancaster, PA

TA-W-52,637; MSX International Engineering Services, Inc., a wholly-owned subsidiary of MSX International, Inc., Collaborative Engineering Management Services Div., Madison Heights, MI

TA-W-52,444; Luzenac America, Inc., a subsidiary of Rio Tinto, PLC, Centennial, CO

TA-W-52,451; Saurer, Inc., a/k/a Schlafhorst, Inc., Charlotte, NC

The investigation revealed that criterion (a)(2)(A)(I.A) (no employment decline) has not been met.

TA-W-52,725; Fishing Vessel (F/V) Bad Betty, Homer, AK

TA-W-52,697; Pryor Fish Camp, Kodiak, AK

TA-W-52,760; Fishing Vessel (F/V) Freedom, Mt. Vernon, WA

The investigation revealed that criteria (a)(2)(A)(I.C) (increased imports) and (a)(2)(B)(II.C) (has shifted production to a foreign country) have not been met.

TA-W-52,396; Phoenix Technologies, Ltd, Irvine, CA

The investigation revealed that criteria (a)(2)(A)(I.B) (Sales or production, or both, did not decline) and (a)(2)(B)(II.B) (has shifted production to a county not under the free trade agreement with U.S.) have not been met.

TA-W-52,550; Crane Valve North America, Washington, IA

TA-W-52,314; Presstek, Inc., Hudson, NH

TA-W-52,399A; Morelock Enterprises, Closures Div., including leased workers from Staffing Services, Bend, OR

The investigation revealed that criteria (2) has not been met. The workers firm (or subdivision) is not a supplier or downstream producer to trade-affected companies.

TA-W-52,353; Nevamar Co., LLC, Waverly, VA

TA-W-52,568; Day International, Textiles Div., Greenville, SC

TA-W-52,676; Defender Services, Inc., Working at Pillowtex Plant #1, Kannapolis, NC, A; Defender Services, Inc., Working at Pillowtex Plant #16, Salisbury, NC, B; Defender Services, Inc., Working at Pillowtex Plant #6, Concord, NC and C; Definder Services, Inc., Working at Pillowtex Corp., Eden, NC

Affirmative Determinations for Worker Adjustment Assistance

The following certifications have been issued; the date following the company name and location of each determination references the impact date for all workers of such determination.

The following certifications have been issued. The requirements of (a)(2)(A) (increased imports) of Section 222 have been met.

TA-W-52,530; Fluor Industrial Services, Inc., Maintenance and Industrial Services Div., Kannapolis, NC: August 11, 2002.

TA-W-52,463; Kannapolis Energy Partners, LLC, Kannapolis, NC: July 31, 2002.

TA-W-52,613; ITT Industries, Cannon Switch Products, including leased workers of Staffmark and Adecco, Loveland, CO: August 14, 2002.

TA-W-52,415; Todays Plastics, Bonneville, AR: July 29, 2002.

TA-W-52,418; Tyler Pipe Co., Utility Fittings Div., Tyler, TX: July 23, 2002.

TA-W-52,491; Tembec Woodsville, Inc., Woodsville, NH: August 6, 2002.

TA-W-52,176; Belmont Dyers Co., a div. of Meridian Dyed Yarn Group, Belmont, NC: June 4, 2002.

TA-W-52,467; Johnson and Johnson Would Management, a div. of Ethicon, Inc., including leased workers of Kelly Services, Sherman, TX: August 4, 2002.

TA-W-52,524; General Electric Appliances, a subsidiary of General Electric Co., Bloomington, IN: February 2, 2003.

TA-W-51,906; The Central Brass Manufacturing Co., Cleveland, OH: May 22, 2002.

TA-W-52,384 & A; Slater Screen Print Corp., Pawtucket, RI and Slater Dye Works, Inc., Pawtucket, RI: July 23, 2002.

TA-W-52,405; Matheson Tri-Gas, a wholly owned subsidiary of Nippon Sanso, Site Services Div., Employed at Sony Semiconductor, San Antonio, TX: July 24, 2002.

TA-W-52,417; Pennsylvania House, Inc., Lewisburg, PA: July 17, 2002.

TA-W-52,342; Citation, Browntown, WI: July 16, 2002.

TA-W-52,389; Master Carvers of Jamestown, Ltd, Jamestown, NY: July 16, 2002.

TA-W-52,409; Baxter Healthcare Corp., Bioscience, Rochester, MI: July 20, 2002.

TA-W-52,433; Design Engineering Management Co., Inc., including leased workers of Experience Works Staffing Service, Temp Associates, Inc., and CSI Employment Services, New London, IA: July 17, 2002.

TA-W-52,399; Morelock Enterprises, Components Div., including leased workers from Staffing Services, Bend, OR: July 24, 2002.

TA-W-52,626; Paper Converting Machine Co., Green Bay, WI: August 14, 2002.

TA-W-52,180; Stencil Aire, LLC, Laster Excel Div., Green Lake, WI: June 27, 2002.

TA-W-52,388; R.P. Adams Co., Inc., Buffalo, NY: May 14, 2002.

TA-W-52,404; Curtis Specialty Papers, Port Huron Mill, Port Huron, MI: July 24, 2002.

TA-W-52,414; Actco Tool and Manufacturing Co., Meadville, PA: July 17, 2002.

TA-W-52,466; USR Optonix, Inc., Phosphor Div., Hackettstown, NJ: January 6, 2003.

TA-W-51,720; Kidder, Inc., Agawam, MA: April 22, 2002.

TA-W-52,559; Pillowtex Corp., Bed and Bath Div., including leased workers of Corestaff Agency, Rakes Staffing, A & R Agency and Ajilon Staffing, Kannapolis, NC: August 15, 2003.

TA-W-52,680; Vaughan Furniture Co., Inc., Empire Plant, Johnson City, TN: August 21, 2002.

TA-W-52,737; Triquint Optoelectronics, Inc., Breinigsville, PA: August 18, 2002.

TA-W-52,476; Fieldcrest Cannon, Inc., a subsidiary of Pillowtex Corp., Bath Div. including leased workers of Corestaff Agency, Fieldale, VA: August 6, 2002.

TA-W-52,477; Fieldcrest Cannon, Inc., a subsidiary of Pillowtex Corp., Bed Div., Decorative Bedding, including leased workers of A & R Staffing, Eden, NC.

TA-W-52,478; Fieldcrest Cannon, Inc., a subsidiary of Pollowtex Corp., Bed Div., Plant 16, China Grove, NC: August 6, 2002.

TA-W-52,479; Fieldcrest Cannon, Inc., a subsidiary of Pillowtex Corp., Bed Div., Plant 11, including leased workers of Corestaff Agency, Rockwell, NC: August 6, 2002.

TA-W-52,480; Fieldcrest Cannon, Inc., a subsidiary of Pillowtex Corp., Bed Div., Plant 6, including leased workers of Corestaff Agency, Conford, NC: August 6, 2002.

TA-W-52,481; Fieldcrest Cannon, Inc., a subsidiary of Pillowtex Corp., Bed Div., FC Finishing, Union, SC: August 6, 2002.

TA-W-52,482; Fieldcrest Cannon, Inc, a subsidiary of Pillowtex Corp., Bath Div Warehouse, Mauldin, SC: August 6, 2002.

TA-W-52,483; Pillowtex Corp., Pillow and Pad Div., Dallas, TX: August 6, 2002.

TA-W-52,484; Pillowtex Corp., Pillow and Pad Div., Chicago, IL: August 6, 2002.

TA-W-52,485; Pillowtex Corp., Pillow and Pad Div., Hanover, PA: August 6, 2002.

TA-W-52,486; Pillowtex Corp., Pillow and Pad Div., Los Angeles, CA: August 6, 2002.

TA-W-52,487; Pillowtex Corp., Pillow and Pad Div., Tunica, MS: August 6, 2002.

TA-W-52,475; Fieldcrest Cannon, Inc., a subsidiary of Pillowtex Corp., Bath Div., including leased workers of Corestaff Agency, Scottsboro, AL: August 6, 2002.

TA-W-52,679; GN Netcom, Inc., Nashua, NH: August 25, 2002.

TA-W-52,535; Admanco, Inc., Ripon, WI: August 11, 2002.

TA-W-52,524; Viceroy Gold Corp., Castle Mountain Mine, a subsidiary of Quest Capital Corp., Ivanpah, CA: August 8, 2003.

TA-W-52,498; Smart Modular Technologies, (MA), Inc. a wholly owned subsidiary of Solectron Crop., Technology Solutions Business Unit Div., Wilmington, MS: August 7, 2002.

TA-W-52,492; Buckeye Lumberton, Inc., Lumberton, NC: August 6, 2002.

TA-W-52,488; McKenzie Forest Products, LLC, Myrtle Point, OR: August 6, 2002.

The following certifications have been issued. The requirements of (a) (2) (B) (shift in production) of Section 222 have been met.

TA-W-52,460; Alice Manufacturing Co., Inc., Arial Plant. Div., Easley, SC: August 1, 2002.

TA-W-52,599; Ruppe Hosiery, Inc., Kings Mountain, NC:. August 7, 2002.

TA-W-52,446; Graphite Design International, Inc., San Diego, CA: July 22, 2002.

TA-W-52,527; MOCAP, Inc., Farmington, MO: August 6, 2002.

TA-W-52,385; Derby Fabricating LLC, Galesburg Plant, wholly owned by Raymond Loyd, Galesburg, IL: July 23, 2002.

TA-W-52,453; National Metal Abrasives, Inc., Wadsworth, OH: July 30, 2002.

TA-W-52,529; Marshall Gas Controls, a div. of S.H. Leggitt Co., San Marcos, TX: July 31, 2002.

TA-W-52,551; Mueller Gas Products/Lincoln Brass Works, Waynesboro, TN: August 12, 2002.

TA-W-52,369; Hopper Radio of Florida, Weston, FL: July 10, 2002.

TA-W-52,392; Chromalox, Inc., formerly known as Wiegand Industrial, a div. of J.P. Morgan Partners, LLC,. Ogden, UT: July 23, 2002.

TA-W-52,429; Agilent Technologies, Asics Product Div. (APD), Fort Collins, CO: July 21, 2002.

TA-W-52,571; The Dean Co., Princeton, WV: July 30, 2002.

TA-W-52,542; Columbus Industries, Inc., Asheville, OH: August 11, 2002.

TA-W-52,742; Fishercast, Inc., a div. of Fisher Gauge Ltd, Watertown, NY: August 17, 2002

TA-W-52,763; Philadelphia Chewing Gum Corp., Havertown, PA: August 22, 2002.

TA-W-52,503; Carolina Mills, Inc., Plant #2, Newton, NC: August 7, 2002.

TA-W-52,678; Cooper Industries, Crouse-Hinds Div. formerly known as Myers Hubs, Montebello, CA: August 15, 2002.

TA-W-52,687; Renfro Corp., Pulaski Plant, Pulaski, VA: August 16, 2002.

TA-W-52,739; Springs Industries, Inc., Baby Products Div., Gainesville, GA: August 26, 2002.

TA-W-52,634; Monona Wire Corp., Dodge Facility, Dekalb, IL: August 20, 2002.

TA-W-52,570; Depuy Orthopedics, Inc., Albuquerque, NM: August 13, 2002.

TA-W-52,558; Edison Fashion, Inc., Bronx, NY: August 11, 2002.

TA-W-52,544; Alstom Power, Inc., Heat Exchange Div., Easton, PA: August 11, 2002.

TA-W-52,608; Fruit of The Loom Texas, Inc., Harlingen, TX: August 11, 2002.

TA-W-52,473; Maytag Corp., Maytag Appliance Div., Galesburg Refrigeration Products, Galesburg, IL: August 6, 2002

The following certification has been issued. The requirement of upstream supplier to a trade certified primary firm has been met.

TA-W-52,549; Broadway and Son Electric, Inc., Workers Employed at Pillowtex Corp., Kannapolis, NC: August 11, 2002.

Negative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

Since the workers are denied eligibility to apply for TAA, the workers cannot be certified eligible for ATAA.

TA-W-52,598 & A; Minacs, Flint, MI and Swartz Creek, MI

TA-W-52,665; Textron Fastening Systems, a wholly-owned subsidiary of Textron, Inc., PFPD Plant, Tooling Department, Rockford, IL

TA-W-52,622; Descartes Systems (USA) LLC, an affiliate of The Descartes Systems Group, Inc., Atlanta, GA

TA-W-52,489; Portola Packaging, Inc., U.S. Closure Div., Sumter, SC

TA-W-52,542; Columbus Industries, Inc., Asheville, OH

TA-W-52,580; Irwin-Hodson Metal Manufacturing LLC, Portland, OR

TA-W-52,666; Preceed America, Inc., Hillsboro, OR

TA-W-52,670; Joy Mining Machinery, Abingdon, VA

TA-W-52,594; Squires Hardwoods, Inc., Shannon Div., Shannon, NC

Affirmative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-52,742; Fishercast, Inc., a div. of Fisher Gauge Ltd, Watertown, NY: August 17, 2002

TA-W-52,763; Philadelphia Chewing Gum Corp., Havertown, PA: August 22, 2002.

TA-W-52,503; Carolina Mills, Inc., Plant #2, Newton, NC: August 7, 2002.

TA-W-52,678; Cooper Industries, Crouse-Hinds Div. formerly known as Myers Hubs, Montebello, CA: August 15, 2002.

TA-W-52,687; Renfro Corp., Pulaski Plant, Pulaski, VA: August 16, 2002.

TA-W-52,739; Springs Industries, Inc., Baby Products Div., Gainesville, GA: August 26, 2002.

TA-W-52,634; Monona Wire Corp., Dodge Facility, Dekalb, IL: August 20, 2002.

TA-W-52,570; Depuy Orthopedics, Inc., Albuquerque, NM: August 13, 2002.

TA-W-52,558; Edison Fashion, Inc., Bronx, NY: August 11, 2002.

TA-W-52,544; Alstom Power, Inc., Heat Exchange Div., Easton, PA: August 11, 2002.

TA-W-52,608; Fruit of The Loom Texas, Inc., Harlingen, TX: August 11, 2002.

TA-W-52,473; Maytag Corp., Maytag Appliance Div., Galesburg Refrigeration Products, Galesburg, IL: August 6, 2002.

TA-W-52,559; Pillowtex Corp., Bed and Bath Div., including leased workers of Corestaff Agency, Rakes Staffing, A & R Agency and Ajilon Staffing, Kannapolis, NC: August 15, 2003

TA-W-52,680; Vaughan Furniture Co., Inc., Empire Plant, Johnson City, TN: August 21, 2002.

TA-W-52,737; Triquint Optoelectronics, Inc., Breinigsville, PA: August 18, 2002.

TA-W-52,476; Fieldcrest Cannon, Inc., a subsidiary of Pillowtex Corp., Bath Div. including leased workers of Corestaff Agency, Fieldale, VA: August 6, 2002.

TA-W-52,477; Fieldcrest Cannon, Inc., a subsidiary of Pillowtex Corp., Bed Div., Decorative Bedding, including leased workers of A & R Staffing, Eden, NC

TA-W-52,478; Fieldcrest Cannon, Inc., a subsidiary of Pollowtex Corp., Bed Div., Plant 16, China Grove, NC: August 6, 2002.

TA-W-52,479; Fieldcrest Cannon, Inc., a subsidiary of Pillowtex Corp., Bed Div., Plant 11, including leased workers of Corestaff Agency, Rockwell, NC: August 6, 2002.

TA-W-52,480; Fieldcrest Cannon, Inc., a subsidiary of Pillowtex Corp., Bed Div., Plant 6, including leased workers of Corestaff Agency, Concord, NC: August 6, 2002.

TA-W-52,481; Fieldcrest Cannon, Inc., a subsidiary of Pillowtex Corp., Bed Div., FC Finishing, Union, SC: August 6, 2002.

TA-W-52,482; Fieldcrest Cannon, Inc., a subsidiary of Pillowtex Corp., Bath Div Warehouse, Mauldin, SC: August 6, 2002.

TA-W-52,483; Pillowtex Corp., Pillow and Pad Div., Dallas, TX: August 6, 2002.

TA-W-52,484; Pillowtex Corp., Pillow and Pad Div., Chicago, IL: August 6, 2002.

TA-W-52,485; Pillowtex Corp., Pillow and Pad Div., Hanover, PA: August 6, 2002.

TA-W-52,486; Pillowtex Corp., Pillow and Pad Div., Los Angeles, CA: August 6, 2002.

TA-W-52,487; Pillowtex Corp., Pillow and Pad Div., Tunica, MS: August 6, 2002.

TA-W-52,475; Fieldcrest Cannon, Inc., a subsidiary of Pillowtex Corp., Bath Div., including leased workers of Corestaff Agency, Scottsboro, AL: August 6, 2002.

TA-W-52,679; GN Netcom, Inc., Nashua, NH: August 25, 2002.

TA-W-52,535; Admanco, Inc., Ripon, WI: August 11, 2002.

TA-W-52,524; Viceroy Gold Corp., Castle Mountain Mine, a subsidiary of Quest Capital Corp., Ivanpah, CA: August 8, 2003.

TA-W-52,498; Smart Modular Technologies, (MA), Inc. a wholly owned subsidiary of Solectron Crop., Technology Solutions Business Unit Div., Wilmington, MS: August 7, 2002.

TA-W-52,492; Buckeye Lumberton, Inc., Lumberton, NC: August 6, 2002.

TA-W-52,488; McKenzie Forest Products, LLC, Myrtle Point, OR: August 6, 2002.

I hereby certify that the aforementioned determinations were issued during the months of September. Copies of these determinations are available for inspection in Room C-5311, U.S. Department of Labor, 200 Constitution Avenue, NW., Washington, DC 20210 during normal business hours or will be mailed to persons who write to the above address.

Dated: September 18, 2003.
Timothy Sullivan,
Director, Division of Trade Adjustment Assistance.

[FR Doc. 03-25722 Filed 10-9-03; 8:45 am]

BILLING CODE 4510-30-P